DEPARTMENT OF COMMERCE

National Oceanic and Atmospheric Administration

[RTID 0648-XE299]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three day in-person meeting of its Standing, Special Mackerel and Special Shrimp Scientific and Statistical Committees (SSC).

DATES: The meeting will be held Tuesday, October 8, 2024 from 8:30 a.m. to 4 p.m., Wednesday, October 9, 2024, from 8:30 a.m. to 5 p.m. and Thursday, October 10, 2024, from 8:30 a.m. to 3 p.m., EDT.

ADDRESSES: The meeting will take place at the Gulf Council office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org; telephone: (813) 348-1630.

SUPPLEMENTARY INFORMATION:

Tuesday, October 8, 2024; 8:30 a.m.-4 p.m. EDT

The meeting will begin with Introductions and Adoption of Agenda, Scope of Work, review and approval of Meeting Minutes from the July/August 2024 SSC meeting.

The SSC Standing Committee, with the Special Mackerel SSC, will review the Effects of Recreational Data Calibration on Spanish Mackerel Model Performance and SEDAR 99: Gulf Migratory Group King Mackerel Terms of Reference and Volunteers, including presentations, background materials, draft schedule and SSC discussion.

The Standing SSC will then review the SEDAR 88: Gulf Red Grouper Stock Assessment and Fisherman Feedback, including presentations, background information, and SSC discussion.

Public comments will be heard at the end of the day, if any.

Wednesday, October 9, 2024; 8:30 a.m.-5 p.m., EDT

The Standing SSC will review and discuss the SEDAR 98: Gulf Red Snapper Assessment Workshop Volunteers and Recreational Red Snapper Texas Calibration Simulation including presentations, background materials and SSC discussion.

The SSC will then discuss SEDAR Process Changes and Assessment Approaches, followed by a review of SEDAR 88: Gulf Red Grouper Projections and Catch Recommendations. The SSC will next discuss Consideration of Carryover and Phase-in for Gulf Stocks in Proposed ABC Control Rule Management Strategy Evaluation (MSE) Simulations, including presentations, background materials and SSC discussion.

Public comments will be heard at the end of the day, if any.

Thursday, October 10, 2024; 8:30 a.m.-3 p.m., EDT

The Standing and Special Shrimp SSC members will review Timing of Re-initiation of Sector 7 Endangered Species Act (ESA) Consultation for Shrimp including a presentation, background materials and SSC discussion. The Standing SSC will then discuss the 2025-2028 Research and Monitoring Priorities and review the Southeastern U.S. Black Grouper Management Strategy Evaluation including presentations, background materials and SSC discussion.

Public comments will be heard at the end of the day before any items under Other Business are discussed.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: September 17, 2024.
Rey Israel Marquez,
Acting Deputy Director, Office of Sustainable Fisheries, National Marine Fisheries Service.

[FR Doc. 2024-21585 Filed 9-19-24; 8:45 am]

BILLING CODE 3510-22-P